DEPARTMENT OF HEALTH AND HUMAN SERVICES

Centers for Medicare & Medicaid Services

[Document Identifier: CMS-10255, CMS-10112, CMS-R-148 and CMS-287-05]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Evaluation of Care and Disease Management Under Medicare Advantage. Use: CMS is conducting an evaluation of care and disease management programs under Medicare Advantage (MA), which includes a survey of all MA plans. The survey will help describe the structure and operation of these programs. The survey will gather information about MA health plans' care and disease management programs that is not available from other sources, such as relations with health providers, the use of electronic data systems, characteristics of care and disease management programs, population served, physician intervention, differences with regular MA plans and special needs plans, and evidence of effectiveness and assessment of costs. Information is collected through a one-time, self-administered mail questionnaire. Form Number: CMS-10255 (OMB# 0938-New); Frequency: Once; Affected Public: Private sector-Business or other for-profit and Not-for-profit institutions; Number of Respondents: 475; Total Annual Responses: 475; Total Annual Hours: 435.

2. Type of Information Collection Request: Extension without change of a currently approved collection; Title of Information Collection: Phone Surveys of Products and Services for Medicare Payment Validation and Supporting Regulations in 42 CFR 405.502. Use: The phone surveys of products and services for Medicare payment validation and supporting regulations in 42 CFR 405.502 will be used to identify specific products/services provided to Medicare beneficiaries and the costs associated with the provision of those products/services. The information collected will be used to validate the Medicare payment amounts for those products/services and institute revisions of payment amounts where necessary. The respondents will be the companies that have provided the product/service under review to Medicare beneficiaries. Form Number: CMS-10112 (OMB# 0938-0939); Frequency: Occasionally; Affected Public: Private sector-Business or other for-profit; Number of Respondents: 4,000; Total Annual Responses: 4,000; Total Annual Hours: 16,000.

3. Type of Information Collection Request: Extension without change of a currently approved collection; Title of Information Collection: Limitations on Provider Related Donations and Health Care Related Taxes; Limitation on Payments for Disproportionate Share Hospitals and Supporting Regulations in 42 CFR 433.68, 433.74 and 447.272; Use: This information collection is necessary to ensure compliance with Sections 1903 and 1923 of the Social Security Act for the purpose of preventing payments of Federal financial participation on amounts prohibited by statute. Form Number: CMS-R-148 (OMB# 0938-0618); Frequency: Quarterly and occasionally; Affected Public: State, Local or Tribal Governments; Number of Respondents: 50; Total Annual Responses: 40; Total Annual Hours: 3,200.

4. Type of Information Collection Request: Extension without change of a currently approved collection; Title of Information Collection: Chain Home Office Cost Statement and supporting Regulations in 42 CFR 413.17 and 413.20; Use: The Form CMS-287-05 is filed annually by Chain Home Offices to report the information necessary for the determination of Medicare reimbursement to components of chain organizations. However, where providers are components of chain organizations, information included in the chain home office cost statement is in addition to that included in the provider cost report and is needed to determine whether payments are appropriate. Form Number: CMS-287-05 (OMB# 0938-0202); Frequency: Yearly; Affected Public: Business or other for-profit and Not-for-profit institutions; Number of Respondents: 1,345; Total Annual Responses: 1,345; Total Annual Hours: 626,770.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by March 28, 2008.

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

Dated: January 18, 2008.
Michelle Shortt,
Director, Regulations Development Group, Office of Strategic Operations and Regulatory Affairs.

[FR Doc. E8-1363 Filed 1-25-08; 8:45 am]

BILLING CODE 4120-01-P